DEPARTMENT OF DEFENSE

Office of the Secretary

[Docket ID: DoD-2024-OS-0011]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 15, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Mr. James Hatcher, Defense Manpower Data Center, 4800 Mark Center Drive, Suite 04E25, Alexandria, VA 22350-3100 or call (831) 241-2353.

SUPPLEMENTARY INFORMATION:

Title; Associated Form; and OMB Number: Defense Biometric Identification System (DBIDS) Registration Application; OMB Control Number: 0704-0455.

Needs and Uses: The information collection requirement is necessary to obtain and record the biographic and biometric data connected with positively identifying identity, eligibility for access, and fitness within DBIDS and shared with Identity Matching Engine for Security and Analysts (IMESA)/Interoperability Layer Service (IoLS). The form data is used in the determination of access at DBIDS sites and affiliated systems through use of IMESA/IoLS.

Affected Public: Individuals or households.

Annual Burden Hours: 312,500.

Number of Respondents: 2,500,000.

Responses per Respondent: 1.

Annual Responses: 2,500,000.

Average Burden per Response: 7.5 minutes.

Frequency: On Occasion.

Dated: February 7, 2024.
Aaron T. Siegel,
Alternate OSD Federal Register Liaison Officer, Department of Defense.

[FR Doc. 2024-02956 Filed 2-12-24; 8:45 am]

BILLING CODE 6001-FR-P